DEPARTMENT OF AGRICULTURE

Rural Telephone Bank

Sunshine Act; Meetings

AGENCY: Rural Telephone Bank, USDA.

ACTION: Staff Briefing for the Board of Directors.

Time and Date: 2 p.m., Wednesday, November 2, 2005.

Place: Conference Room 104-A, Jamie L. Whitten Federal Building, U.S. Department of Agriculture, 12th & Jefferson Drive, SW., Washington, DC.

Status: Open.

Matters To Be Discussed: The following matters have been placed on the Staff briefing for the Board of Directors meeting agenda:

1. Reduction in FY2005 class C stock dividend rate due to statutory restrictions.

2. Update on liquidation of the bank.

3. Administrative and other issues.

ACTION: Stockholders' meeting.

Time and Date: 9 a.m., Thursday, November 3, 2005.

Place: Conference Room 107-A, Jamie L. Whitten Federal Building, U.S. Department of Agriculture, 12th & Jefferson Drive, SW., Washington, DC.

Status: Open.

Matters to be Considered: The following matters have been placed on the agenda for the stockholders' meeting:

1. Call to order.

2. Establishment of a quorum.

3. Action on Minutes of the November 14, 2003, stockholders' meeting.

4. Secretary's Report on loans approved, FY 2005.

5. Treasurer's Report.

6. Status report on liquidation of the Bank.

7. New business.

8. Adjournment.

ACTION: Board of Directors meeting.

Time and Date: Immediately following stockholders' meeting, Thursday, November 3, 2005.

Place: Conference Room 107-A, Jamie L. Whitten Federal Building, U.S. Department of Agriculture, 12th & Jefferson Drive, SW., Washington, DC.

Status: Open.

Matters to be Considered: The following matters have been placed on the agenda for the Board of Directors meeting (Items 3 through 5 will only be necessary if a quorum is not established in the stockholders' meeting and these items are not addressed previously.):

1. Call to order.

2. Action on Minutes of the August 4, 2005, board meeting.

3. Secretary's Report on loans approved, FY 2005.

4. Treasurer's Report.

5. Status report on liquidation of the Bank.

6. Consideration of resolution to reduce FY2005 class C stock dividend rate due to statutory restrictions.

7. Establishment of meeting dates for 2006.

8. Adjournment.

Contact Person for More Information: Jonathan Claffey, Acting Assistant Governor, Rural Telephone Bank, (202) 720-9554.

Dated: October 21, 2005.
Curtis Anderson,
Acting Governor, Rural Telephone Bank.

[FR Doc. 05-21383 Filed 10-21-05; 2:03 pm]

BILLING CODE 3410-15-P